ENVIRONMENTAL PROTECTION AGENCY

[AD-FRL-6574-8]

Electric Utility Steam Generating Units; Notice of Public Meeting

AGENCY: Environmental Protection Agency (EPA).

ACTION: Notice of public meeting.

SUMMARY: The EPA must determine whether hazardous air pollutants (HAP) emissions from electric utility steam generating units should be regulated under section 112 of the Clean Air Act (CAA), as amended, on or before December 15, 2000. The EPA's Office of Air and Radiation, Office of Air Quality Planning and Standards will hold a public meeting to provide interested persons an opportunity to provide EPA their views regarding the Agency's determination.

DATES: The public meeting will be held on June 13, 2000.

ADDRESSES: The public meeting will be held in the Lake Michigan Room, 12th floor, of the EPA Region V offices located at 77 West Jackson Boulevard, Chicago, Illinois. The meeting will be from 9:30 a.m. until 4 p.m., Central Daylight time.

FOR FURTHER INFORMATION CONTACT: Mr. William Maxwell, Combustion Group, Emission Standards Division (MD-13), U.S. Environmental Protection Agency, Research Triangle Park, North Carolina 27711, telephone number: (919) 541-5430, facsimile number: (919) 541-5450, e-mail maxwell.bill@epa.gov. Members of the public wishing to attend the meeting should register by phoning Ms. Libby Bradley at (919) 541-5578. Please note that space is limited to approximately 150 attendees and registrations will be accepted on a first-come, first-served basis. On or about June 1, 2000, a tentative agenda, including a list of those registered to date, will be posted to the Agency website http://www.epa.gov/ttn/uatw/combust/utiltox.

SUPPLEMENTARY INFORMATION: Section 112(n)(1)(A) of the CAA requires EPA to perform a study (i.e., utility toxics study) of the hazards to public health anticipated to occur as a result of HAP emissions from electric utility steam generating units, after imposition of the requirements of the CAA, and to prepare a Report to Congress containing the results of the study. The Agency is to proceed with rulemaking activities under section 112 to control HAP emissions from electric utility steam generating units if EPA finds such rulemaking is appropriate and necessary after considering the results of the study. The utility toxics study was completed, and the Final Report to Congress issued on February 24, 1998. The Agency is required to make a finding as to whether it is appropriate and necessary to regulate HAP emissions from electric utility steam generating units on or before December 15, 2000.

On February 29, 2000, EPA published a notice in the Federal Register (65 FR 10783) requesting from the public any information or data that might be considered appropriate for the Agency to consider prior to making the regulatory determination. The deadline for submitting any such data is March 31, 2000. A public meeting is being held in order to provide the public an opportunity to present their views to EPA concerning this determination. This meeting will allow EPA to listen to public opinion on the issue of mercury and other HAP emissions from electric utility steam generating units and the regulatory determination. Members of the public wishing to present formal comments at the meeting should so indicate when registering. Individual speaking times will be limited to 10 minutes in order to give everyone an equal opportunity to speak. Seating will be limited for the meeting and advance registration is suggested. Walk-in comments will be heard on a time-available basis at the end of the session. Please note that scheduling of this public meeting does not extend the March 31, 2000 deadline for submitting additional data in response to the February 29, 2000 Federal Register document. Rather, this meeting provides opportunity for interested persons to make known their views to EPA.

Dated: March 27, 2000.
Robert D. Brenner,
Acting Assistant Administrator, Office of Air and Radiation.

[FR Doc. 00-8713 Filed 4-7-00; 8:45 am]

BILLING CODE 6560-50-P